DEPARTMENT OF COMMERCE

International Trade Administration

[A-122-864, A-201-850, A-570-102]

Certain Fabricated Structural Steel From Canada, Mexico, and the People's Republic of China: Postponement of Preliminary Determinations in the Less-Than-Fair-Value Investigations

AGENCY: Enforcement and Compliance, International Trade Administration, Department of Commerce.

DATES: Applicable July 1, 2019.

FOR FURTHER INFORMATION CONTACT: David Goldberger at (202) 482-4136 (Canada); Andrew Medley at (202) 482-4987 (the People's Republic of China (China)); and Krisha Hill at (202) 482-4037 (Mexico), AD/CVD Operations, Enforcement and Compliance, International Trade Administration, U.S. Department of Commerce, 1401 Constitution Avenue NW, Washington, DC 20230.

SUPPLEMENTARY INFORMATION:

Background

On February 25, 2019, the U.S. Department of Commerce (Commerce) initiated less-than-fair-value (LFTV) investigations of imports of certain fabricated structural steel from Canada, China, and Mexico.¹ Currently, the preliminary determinations are due no later than July 15, 2019.

¹ See Certain Fabricated Structural Steel from Canada, Mexico, and the People's Republic of China: Initiation of Less-Than-Fair-Value Investigations, 84 FR 7330 (March 4, 2019).

Postponement of Preliminary Determinations

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Pursuant to 19 CFR 351.205(e), the petitioner must submit a request to postpone 25 days or more before the scheduled date of the preliminary determination and must state the reasons for postponement. Commerce will grant the request unless it finds compelling reasons to deny the request.

On June 19, 2019, the petitioner ² submitted a timely request that Commerce postpone the preliminary determinations in these LTFV investigations.³ The petitioner stated that the purpose of its request is to provide Commerce with adequate time to solicit information from the respondents and to allow Commerce and the petitioner sufficient time to analyze the respondents' questionnaire responses.⁴

² The petitioner in these LTFV investigations is the American Institute of Steel Construction Full Member Subgroup.

³ See Petitioner's letter, “Certain Fabricated Structural Steel from Canada, Mexico, and the People's Republic of China: Request to Postpone Preliminary Antidumping Duty Determination and to Align Final Countervailing Duty Determination with Final Antidumping Duty Determination,” dated June 19, 2019.

⁴ Id.

For the reasons stated above, and because there are no compelling reasons to deny the request, Commerce, in accordance with section 733(c)(1)(A) of the Act, is postponing the preliminary determinations in these LTFV investigations by 50 days (i.e., 190 days after the date on which these investigations were initiated). Accordingly, Commerce will issue its preliminary determinations in these investigations no later than September 3, 2019. Pursuant to section 735(a)(1) of the Act and 19 CFR 351.210(b)(1), the deadline for the final determinations of these investigations will continue to be 75 days after the date of the preliminary determinations, unless postponed.

This notice is issued and published pursuant to section 733(c)(2) of the Act and 19 CFR 351.205(f)(1).

Dated: June 26, 2019.
Jeffrey I. Kessler,
Assistant Secretary for Enforcement and Compliance.

[FR Doc. 2019-13986 Filed 6-28-19; 8:45 am]

BILLING CODE 3510-DS-P